DEPARTMENT OF HEALTH AND HUMAN SERVICES

Centers for Medicare & Medicaid Services

42 CFR Parts 405, 410 and 419

[CMS-1206-P]

RIN 0938-AL19

Medicare Program; Changes to the Hospital Outpatient Prospective Payment System and Calendar Year 2003 Payment Rates; and Changes to Payment Suspension for Unfiled Cost Reports

Correction

In proposed rule document 02-20146 beginning on page 52092 in the issue of Friday, August 9, 2002, make the following correction:

On page 52092, in the first column, under the DATES section, in the fourth line, “October 8, 2002” should read “October 7, 2002”.

[FR Doc. C2-20146 Filed 8-15-02; 8:45 am]

BILLING CODE 1505-01-D

DEPARTMENT OF LABOR

Occupational Safety and Health Administration

29 CFR Part 1926

[Docket No. H-011G]

RIN No. 1218-AB89

Hearing Conservation Program for Construction Workers

Correction

In proposed rule document 02-19691 beginning on page 50610 in the issue of Monday, August 5, 2002 make the following corrections:

1. On page 50612, in the second column, in Table 1., in the third column, the heading “Excess organization Risk (%) ³” should read “ Excess Risk (%) ³”.

2. On page 50613, in the second column, in footnote 1, in the seventh line, “dBa” should read “dBA”.

[FR Doc. C2-19691 Filed 8-15-02; 8:45 am]

BILLING CODE 1505-01-D

DEPARTMENT OF THE TREASURY

Internal Revenue Service

26 CFR Part 1

[REG-124256-02]

RIN 1545-BA82

Earnings Calculation for Returned or Recharacterized IRA Contributions

Correction

In proposed rule document 02-18452 beginning on page 48067 in the issue of Tuesday, July 23, 2002, make the following correction:

§1.408 A-5 [Corrected]

On page 48070, in § 1.408A-5, A-2(c)(6), in the second column, in Example 1, in the second paragraph, in the fifth line, “($225,000÷$240,000)” should read “($225,000−$240,000)”.

[FR Doc. C2-18452 Filed 8-15-02; 8:45 am]

BILLING CODE 1505-01-D